DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than September 21, 2016.

ADDRESSES: Submit your comments, including the ICR Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Building Futures: Supporting Youth Living with HIV.

OMB No.: 0915-xxxx-New.

Abstract: The Ryan White HIV/AIDS Program (RWHAP), administered by the HRSA HIV/AIDS Bureau (HRSA/HAB), provides HIV-related services in the United States for people living with HIV (PLWH) who do not have sufficient health care coverage or financial resources to pay for HIV-related services. In 2014, 5.8 percent of the approximately 512,000 RWHAP clients served were young adults between the ages of 13-24.¹ HRSA/HAB awarded a contract, Building Futures: Supporting Youth Living with HIV, to identify and document best-practices and challenges associated with providing HIV care to youth living with HIV. Information learned from RWHAP sites serving youth living with HIV (aged 13-24 years) will help identify effective strategies and barriers for helping this population reach viral load suppression. The sites will be chosen from RWHAP-funded providers based on data from the 2014 Ryan White HIV/AIDS Services Report. Information gathered at these visits will help inform best practices and the development of technical assistance (TA) to conduct at sites looking to improve their outcomes along the HIV care continuum. It will also inform additional TA products that will be made available to other RWHAP providers to improve health outcomes for young PLWH.

¹ Health Resources and Services Administration. Ryan White HIV/AIDS Program Annual Client-Level Data Report 2014. http://hab.hrsa.gov/data/servicesdelivered/2014RWHAPDataReport.pdf. Published December 2015. Accessed 1/29/2016.

Need and Proposed Use of the Information: Youth (defined for the purposes of this project as age 13 through 24) in the United States are disproportionately impacted by HIV. In 2014, 9,731 (22 percent) of the 44,073 new HIV diagnoses in the U.S. were among youth between the ages of 13 and 24, with a large majority (81 percent) of these youth diagnoses among older youth aged 20-24.² Young PLWH also experience disparities in outcomes along the HIV care continuum.³ Among RWHAP clients in 2014, older youth aged 20-24 had the lowest rates of retention in care and both 15-19 year olds and 20-24 year olds had notably lower rates of viral load suppression as compared to other age groups. Additionally, certain subpopulations such as young men who have sex with men (MSM) of color, lesbian, gay, bisexual, transgender and questioning youth (LGBTQ), and young women of color bear a disproportionate share of the disease burden and have poorer outcomes in the areas of retention in care and viral suppression.4 5

² Centers for Disease Control and Prevention, “Diagnoses of HIV Infection in the United States and Dependent Areas, 2014,” HIV Surveillance Supplemental Report; Vol 26, November 2015, http://www.cdc.gov/hiv/pdf/library/reports/surveillance/cdc-hiv-surveillance-report-us.pdf.

³ “HIV/AIDS Care Continuum,” accessed January 26, 2016, https://www.aids.gov/federal-resources/policies/care-continuum/.

⁴ Centers for Disease Control and Prevention, “HIV Among Youth,” HIV Among Youth, June 30, 2015, http://www.cdc.gov/hiv/group/age/youth/index.html.

⁵ “Youth and Young Adults in the Ryan White HIV/AIDS Program,” September 2015, http://hab.hrsa.gov/data/reports/youthdatareport2015.pdf.

The Building Futures: Supporting Youth Living with HIV project aims to strengthen RWHAP engagement with young people aged 13-24 living with HIV to improve their health outcomes. Through this project, HRSA/HAB will systematically document strategies used by providers funded by the RWHAP to achieve high rates of youth retention in care and viral load suppression. HRSA/HAB will also learn about gaps and challenges from providers that have demonstrated poorer outcomes in these areas.

Specialized Site Visits will be conducted with 10 RWHAP providers with youth patients with strong outcomes in the areas of patient retention and viral suppression to identify, understand, and document replicable evidence-based best practices and models of care. Interviews will be conducted with program support and clinical staff, in addition to HIV-positive youth patients. HIV-positive youth leaders will be engaged as consultants to the site visit team to pretest instruments, review site visit conclusions with the project team, and offer a perspective of youth living with HIV on the data gathered from sites. TA, including implementation of changes to improve performance among youth-serving RWHAP providers, will be developed from information gathered through the site visits.

Performance Improvement Site Visits will be conducted with 16 additional RWHAP providers to better understand the gaps and challenges to providing RWHAP care to youth, share best practices and lessons learned from other providers, and provide action-oriented TA to overcome barriers and improve outcomes along the HIV care continuum. Youth consultants will co-lead a panel/advisory board of young people living with HIV and a planning session to better understand technical assistance implementation issues.

Sampled providers will be selected based on viral load suppression and retention in care rates and the diversity of client populations, as identified in 2014 Ryan White HIV/AIDS Services Report data.

Likely Respondents: Clinics funded by the Ryan White HIV/AIDS Program.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—523.

Form name | Number of respondents | Number of responses per respondent | Total responses | Average burden per response (hours) | Total burden hours
Online questionnaire | 26 | 1 | 26 | 0.5 | 13
Onsite Observational Tool | 26 | 1 | 26 | 0.5 | 13
Program Manager and Clinical Director Interview Guide (Specialized) | 20 | 1 | 20 | 1.5 | 30
Program Manager and Clinical Director Interview Guide (Performance Improvement) | 32 | 1 | 32 | 1.5 | 48
Program and Administrative Staff Interview Guide (Specialized) | 50 | 1 | 50 | 1 | 50
Program and Administrative Staff Interview Guide (Performance Improvement) | 80 | 1 | 80 | 1 | 80
Youth Focus Group | 156 | 1 | 156 | 1 | 156
Youth Interview | 26 | 1 | 26 | 0.5 | 13
Panel/advisory board of young people living with HIV (Performance Improvement ) | 80 | 1 | 80 | 1.5 | 120
Total | 496 |  | 496 |  | 523

Jason E. Bennett,
Director, Division of the Executive Secretariat.

[FR Doc. 2016-19931 Filed 8-19-16; 8:45 am]

BILLING CODE 4165-15-P